DEPARTMENT OF THE INTERIOR

Fish and Wildlife Service

50 CFR Part 17

[Docket No. FWS-R2-ES-2009-0077; 92220-1113-0000; ABC Code: C3]

RIN 1018-AW63

Endangered and Threatened Wildlife and Plants; Establishment of a Nonessential Experimental Population of Sonoran Pronghorn in Southwestern Arizona

AGENCY: Fish and Wildlife Service, Interior.

ACTION: Proposed rule: reopening of the public comment period.

SUMMARY: We, the U.S. Fish and Wildlife Service (Service), announce the reopening of the public comment period on our February 4, 2010, proposed rule to reestablish the Sonoran pronghorn (Antilocapra americana sonoriensis) in southwestern Arizona. We proposed to reestablish the Sonoran pronghorn under section 10(j) of the Endangered Species Act of 1973, as amended (Act), and to classify that reestablished population as a nonessential experimental population (NEP). The proposed rule provided a plan for establishing the NEP and provided for allowable legal incidental taking of Sonoran pronghorn within the defined NEP area. A draft environmental assessment (EA) on this proposed action was also made available for comment. This action will provide all interested parties with an additional opportunity to submit comments on the proposed rule to reestablish Sonoran pronghorn into southwest Arizona and its accompanying draft EA. Information previously submitted need not be resubmitted as it has already been incorporated into the public record and will be fully considered in the final rule.

DATES: To allow us adequate time to consider and incorporate submitted information into our review, comments and information must be submitted on or before July 9, 2010.

ADDRESSES: You may submit comments by any of the following methods:

• Federal eRulemaking Portal: http://www.regulations.gov. Follow the instructions for submitting comments.

• U.S. mail or hand-delivery: Public Comments Processing, Attn: FWS-R2-ES-2009-0077; Division of Policy and Directives Management; U.S. Fish and Wildlife Service; 4401 N. Fairfax Drive, Suite 222; Arlington, VA 22203.

FOR FURTHER INFORMATION CONTACT: Curtis McCasland, Refuge Manager, Cabeza Prieta National Wildlife Refuge, 1611 North Second Avenue, Ajo, AZ 85321; by telephone (520-387-6483) or by facsimile (520-387-5359). If you use a telecommunications device for the deaf (TDD), please call the Federal Information Relay Service (FIRS) at 800-877-8339.

SUPPLEMENTARY INFORMATION:

Background

On February 4, 2010, we published a proposed rule to reestablish the Sonoran pronghorn, a federally listed endangered mammal, into its historical habitat in King Valley, Kofa National Wildlife Refuge (Kofa NWR), in Yuma County, and to the Barry M. Goldwater Range—East (BMGR-E), in Maricopa County, in southwestern Arizona (75 FR 5732). At this time, we are reopening the public comment period for the proposed NEP and draft EA for a period of 30 days. For more information on the biology, habitat, and range of the Sonoran pronghorn, please refer to our previous proposed rule published in the Federal Register on February 4, 2010 (75 FR 5732).

Public Comments

We, the U.S. Fish and Wildlife Service (Service), published a proposed rule to establish a nonessential experimental population (NEP) of Sonoran pronghorn (Antilocapra americana sonoriensis) in southwestern Arizona in the Federal Register on February 4, 2010 (75 FR 5732). We are continuing to ask for public comment during this reopened public comment period on the proposed rule and draft environmental assessment (EA). We want the final rule to be as effective as possible and the final EA on the proposed action to evaluate all potential issues associated with this action. We request information from the public, other concerned governmental agencies, Native American Tribes, the scientific community, industry, or any other interested parties relevant to the proposed rule and draft EA. Comments should be as specific as possible. If you submitted information previously on the proposed rule and draft EA, please do not resubmit it. This information has been incorporated into the public record and will be fully considered in the preparation of the final rule. We will consider information received from all interested parties.

To issue a final rule to implement this proposed action and to determine whether to prepare a finding of no significant impact or an environmental impact statement, we will take into consideration all comments and any additional information we receive. Such communications may lead to a final rule that differs from this proposal. All comments, including commenters' names and addresses, if provided to us, will become part of the supporting record.

You may submit your comments and materials concerning the proposed rule and draft EA by one of the methods listed in the ADDRESSES section. We will not accept comments sent by e-mail or fax or to an address not listed in the ADDRESSES section. Finally, we will not consider hand-delivered comments that we do not receive, or mailed comments that are not postmarked, by the date specified in the DATES section. Comments must be submitted to http://www.regulations.gov before midnight (Eastern Time) on the date specified in the DATES section.

We will post your entire comment—including your personal identifying information—on http://www.regulations.gov. If your written comment includes your street address, phone number, or e-mail address, you may request at the top of your document that we withhold this information from public review. However, we cannot guarantee that we will be able to do so. Comments and materials we receive, as well as supporting documentation we used in preparing this proposed rule, will be available for public inspection on http://www.regulations.gov, or by appointment, during normal business hours, at the Cabeza Prieta National Wildlife Refuge (see FOR FURTHER INFORMATION CONTACT).

Peer Review

In accordance with our joint policy published in the Federal Register on July 1, 1994 (59 FR 34270), we will seek the expert opinions of at least three appropriate and independent specialists regarding this proposed rule. The purpose of peer review is to ensure that our proposed NEP designation is based on scientifically sound data, assumptions, and analyses. We will invite these peer reviewers to comment during this public comment period on our specific assumptions and conclusions in this proposed NEP designation.

Authority

The authority for this action is section 10(j) of the Endangered Species Act of 1973, as amended (16 U.S.C. 1531 et seq.).

Dated: May 26, 2010.
Thomas L. Strickland,
Assistant Secretary for Fish and Wildlife and Parks.

[FR Doc. 2010-13777 Filed 6-8-10; 8:45 am]

BILLING CODE 4310-55-P